DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by November 30, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (ADDRESSES above).

PRT-107396

Applicant: Texas Tech University, Dept. of Biological Sciences, Lubbock, TX.

The applicant requests a permit to import blood samples taken from wild chuckwallas (Sauromalus varius) on San Esteban Island, Mexico, for the purpose of scientific research/enhancement of the survival of the species.

PRT-107930

Applicant: Texas Tech University, Dept. of Biological Sciences, Lubbock, TX.

PRT-107930

The applicant requests a permit to import blood samples collected from live wild animals of the following species: Chinese alligator (Alligator sinensis), spectacled caiman (Caiman crocodilus), broad-snouted caiman (Caiman latirostris), black caiman (Melanosuchus niger), American crocodyle (Crocodulus acutus), slender-snouted crocodile (C. cataphractus), Orinoco crocodile (C. intermedius), Philippine crocodile (C. mindorensis), Morelet's crocodile (C. moreletii), mugger (C. palustris), estuarine crocodile (C. porosus), Cuban crocodile (C. rhombifer), Siamese crocodile (C. siamensis), African dwarf crocodile (Osteolaemus tetraspis), false gharial (Tomistoma schlegelii), and Indian gharial (Gavialis gangeticus) from areas around the world for the purpose of scientific research/enhancement of the survival of the species.

PRT-111397

Applicant: Donald S. Priest, San Francisco, CA.

The applicant requests a permit to import the sport-hunted trophy of one male bontebok (Damaliscus pygargus pygargus) culled from a captive herd maintained under the management program of the Republic of South Africa, for the purpose of enhancement of the survival of the species.

Dated: October 7, 2005.
Monica Farris,
Senior Permit Biologist, Branch of Permits, Division of Management Authority.

[FR Doc. 05-21636 Filed 10-28-05; 8:45 am]

BILLING CODE 4310-55-P